SMALL BUSINESS ADMINISTRATION

[License No. 02/04-5151]

Venture Opportunities Corporation; Notice of Surrender of License

Notice is hereby given that Venture Opportunities Corporation (“Venture”) 425 East 58th Street, New York, New York 10022 has surrendered its license to operate as a small business investment company under the Small Business Investment Act of 1958, as amended (“the Act”). Venture was licensed by the U.S. Small Business Administration on December 1, 1978.

Under the authority vested by the Act and pursuant to the regulations promulgated thereunder, the surrender of the license was accepted on March 29, 2001, and accordingly, all rights, privileges, and franchises derived therefrom have been terminated.

(Catalog of Federal Domestic Assistance Program No. 59.011, Small Business Investment Companies)
Dated: April 2, 2001.
Harry Haskins,
Acting Associate Administrator for Investment.

[FR Doc. 01-8565 Filed 4-6-01; 8:45 am]

BILLING CODE 8025-01-U